OFFICE OF THE UNITED STATES TRADE REPRESENTATIVE

[Docket Number USTR-2018-0001]

Exclusion of Particular Products From the Solar Products Safeguard Measure; Correction

AGENCY: Office of the United States Trade Representative.

ACTION: Notice; correction.

SUMMARY: The Office of the United States Trade Representative published a document in the Federal Register of September 19, 2018, concerning a determination to exclude certain products from the safeguard measure on solar products. This notice corrects an error in that document—the time the modifications became applicable should have referenced Eastern Daylight Time (EDT).

FOR FURTHER INFORMATION CONTACT: Victor Mroczka, Office of WTO and Multilateral Affairs, at vmroczka@ustr.eop.gov or (202) 395-9450, or Dax Terrill, Office of General Counsel, at Dax.Terrill@ustr.eop.gov or (202) 395-4739.

Correction: In the Federal Register of September 19, 2018, in FR Doc. 2018-20342, 83 FR 47393-94, on page 47393, under the heading DATES in the first column, and on page 47394, under the heading `V. Annex' in the second column, correct the date and time with respect to articles entered, or withdrawn from a warehouse for consumption, to read: On or after 12:01 a.m. EDT, on September 19, 2018.

Jeffrey Gerrish,
Deputy U.S. Trade Representative.

[FR Doc. 2018-22213 Filed 10-11-18; 8:45 am]

BILLING CODE 3290-F9-P